DEPARTMENT OF COMMERCE

Foreign-Trade Zones Board

[Docket 40-2007]

Foreign-Trade Zone 107 - Des Moines, Iowa, Application for Subzone Status, SACMI USA, Ltd. (Food-Processing and Packaging Equipment), Urbandale, Iowa

An application has been submitted to the Foreign-Trade Zones Board (the Board) by the Iowa Foreign-Trade Zone Corporation, grantee of FTZ 107, requesting special-purpose subzone status for the packaging and food-processing equipment manufacturing facility of SACMI USA, Ltd. (SACMI), located in Urbandale, Iowa. The application was submitted pursuant to the provisions of the FTZ Act, as amended (19 U.S.C. 81a-81u), and the regulations of the Board (15 CFR Part 400). It was formally filed on August 23, 2007.

The SACMI facility (3 acres/65,000 sq. ft.) is located at 3434 106th Circle, in Urbandale, Iowa. The facility (36 employees) will manufacture and warehouse machinery and parts used in the ceramics, plastics, packaging equipment and food-processing industries. SACMI will manufacture labeling machinery (HTSUS 8422.30, duty-free) and compression molding machinery for bottle caps (HTSUS 8477.51, 3.10%) under zone procedures.

Components purchased from abroad (up to 80 percent of finished value) used in manufacturing include grease with/without additive, vulcanized rubber tube, conveyor belts, belting and transmission belts, gasket rings, pipe fit and flanges, screws and bolts, cotters and cotter pins, springs, wrenches, vices, clamps, end milling cutters, tools, stoppers, caps and lids, fans, other parts of machinery for working rubber, safety or relief valves, solenoid valves, appliances, radial ball bearings, cup/cone assembly sets, spherical roller bearings, needle roller bearings, cylindrical roller bearings, cam/crank shafts, gears and gearing, flywheels and pulleys, clutches, clutches and shaft couplings, transmission parts, electric motors under 18.65W, distributors, electric relays, switches for electric circuits, fuses, electrical equipment for switch circuits, coaxial cable, brake parts, other shock absorbers, drawing instruments, and electrical table lamps (duty rate range: free to 9 %).

FTZ procedures could exempt SACMI from Customs duty payments on foreign components that are re-exported. Some 20 percent of the plant's shipments are exported. On domestic shipments, the company would be able to choose the duty rate during customs entry procedures that applies to the finished products (duty-free to 3.10%) for the foreign components listed above and would be able to defer payments until merchandise is shipped from the facility and entered for U.S. consumption. SACMI also plans to realize logistical benefits through the use of weekly entry procedures. The application indicates that all of the above-cited savings from FTZ procedures would help improve the facility's international competitiveness.

In accordance with the Board's regulations, a member of the FTZ Staff has been designated examiner to investigate the application and report to the Board.

Public comment on the application is invited from interested parties. Submissions (original and 3 copies) shall be addressed to the Board's Executive Secretary at the address below. The closing period for their receipt is October 29, 2007. Rebuttal comments in response to material submitted during the foregoing period may be submitted during the subsequent 15-day period to November 13, 2007.

A copy of the application and accompanying exhibits will be available for public inspection at each of the following locations: U.S. Department of Commerce Export Assistance Center, 210 Walnut Street, Suite 749, Des Moines, Iowa 50309 and, the Office of the Executive Secretary, Foreign-Trade Zones Board, U.S. Department of Commerce, Room 2111, 1401 Constitution Avenue, NW, Washington, DC 20230.

For further information, contact Kathleen Boyce at Kathleen_Boyce@ita.doc.gov or (202) 482-1346.

Dated: August 23, 2007.
Andrew McGilvray,
Executive Secretary.

[FR Doc. E7-17116 Filed 8-28-07; 8:45 am]

BILLING CODE 3510-DS-S